DEPARTMENT OF COMMERCE

International Trade Administration

[A-570-909]

Certain Steel Nails from the People's Republic of China: Final Results of the First New Shipper Review

AGENCY: Import Administration, International Trade Administration, Department of Commerce.

SUMMARY: The Department of Commerce (“Department”) is conducting a new shipper review of the antidumping duty order on certain steel nails from the People's Republic of China (“PRC”). See Notice of Antidumping Duty Order: Certain Steel Nails From the People's Republic of China, 73 FR 44961 (August 1, 2008) (“Order”). Based upon our analysis of the comments and information received, we made changes to the dumping margin calculations for the final results. See Memorandum to the File from Tim Lord, Case Analyst, through Alex Villanueva, Program Manager, Analysis of the Final Results of the First New Shipper Review of Certain Steel Nails from the People's Republic of China: Qingdao Denarius Manufacture Co., Ltd. (“Qingdao Denarius”) (“Final Analysis Memorandum”) (June 10, 2010). The final dumping margin is listed below in the section entitled “Final Results of the Review.”

EFFECTIVE DATE: June 17, 2010.

FOR FURTHER INFORMATION CONTACT: Tim Lord, AD/CVD Operations, Office 9, Import Administration, International Trade Administration, U.S. Department of Commerce, 14th Street and Constitution Avenue, NW, Washington, DC 20230; telephone: (202) 482-7425.

SUPPLEMENTARY INFORMATION:

Case History

On January 15, 2010, the Department published in the Federal Register the preliminary results of this new shipper review of the antidumping duty order on certain steel nails from the PRC. See Certain Steel Nails from the People's Republic of China: Notice of Preliminary Results of the New Shipper Review, 75 FR 2483 (January 15, 2010) (“Preliminary Results”). Since the Preliminary Results, the following events have occurred.

On February 12, 2010, the Department issued a memorandum that uniformly extended all Import Administration deadlines by seven days. See Memorandum to the Record from Ronald Lorentzen, DAS for Import Administration, regarding Tolling of Administrative Deadlines as a Result of the Government Closure During the Recent Snowstorm, dated February 12, 2010. On April 21, 2009, the Department published the extension of the time limit for completion of the final results of this new shipper review by 60 days. See Certain Steel Nails from the People's Republic of China: Extension of Time Limit for the Final Results of the First New Shipper Review, 75 FR 14423 (March 25, 2010).

On January 13, 2010, the Department issued a supplemental questionnaire to Qingdao Denarius, in which we asked for documentation to support that Qingdao Denarius' U.S. customer during the period of review (“POR”) re-sold the subject merchandise bought from Qingdao Denarius for a profit. On January 26, 2010, Qingdao Denarius submitted its response. Qingdao Denarius and Petitioner submitted their case briefs on February 16, 2010, and March 8, 2010, respectively, and on March 18, 2010 Qingdao Denarius and Petitioner submitted rebuttal briefs.

Scope of the Order

The merchandise covered by this proceeding includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this proceeding are currently classified under the Harmonized Tariff Schedule of the United States (“HTSUS”) subheadings 7317.00.55, 7317.00.65 and 7317.00.75.

Excluded from the scope of this proceeding are roofing nails of all lengths and diameter, whether collated or in bulk, and whether or not galvanized. Steel roofing nails are specifically enumerated and identified in ASTM Standard F 1667 (2005 revision) as Type I, Style 20 nails. Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumb tacks, which are currently classified under

HTSUS 7317.00.10.00. Also excluded from the scope of this proceeding are certain brads and finish nails that are equal to or less than 0.0720 inches in shank diameter, round or rectangular in cross section, between 0.375 inches and 2.5 inches in length, and that are collated with adhesive or polyester film tape backed with a heat seal adhesive. Also excluded from the scope of this proceeding are fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of this investigation is dispositive.

Analysis of Comments Received

All issues raised in the case and rebuttal briefs by parties to this proceeding and are listed in the Appendix to this notice and addressed in the Issues and Decision Memorandum (“Final Decision Memo”), which is hereby adopted by this notice. Parties can find a complete discussion of the issues raised in this new shipper review and the corresponding recommendations in this public memorandum, which is on file in the Central Records Unit (“CRU”), room 1117 of the main Department of Commerce building. In addition, a copy of the Final Decision Memo can be accessed directly on our website at http://ia.ita.doc.gov/. The paper copy and electronic version of the Final Decision Memo are identical in content.

Changes Since the Preliminary Results

Based on a review of the record as well as comments received from parties regarding our Preliminary Results, we have made revisions to the margin calculation for Qingdao Denarius in the final results. For all changes to the calculations of Qingdao Denarius, see the Final Decision Memo and Final Analysis Memorandum. For changes to the surrogate values see Memorandum to the File, through Alex Villanueva, Program Manager, AC/CVD Operations, Office 9, from Tim Lord, Case Analyst, AD/CVD Operations, Office 9, Analysis of the Final Results of the First New Shipper Review of Certain Steel Nails from the People's Republic of China: Qingdao Denarius Manufacture Co., Ltd. (“Qingdao Denarius”).

Final Results of the Review

The weighted-average dumping margin for the POR is as follows:

Certain Steel Nails from PRC
Manufacturer/Exporter | Weighted-Average Margin (Percent)
Qingdao Denarius | 34.14

Assessment

The Department will determine, and U.S. Customs and Border Protection (“CBP”) shall assess, antidumping duties on all appropriate entries, pursuant to 19 CFR 351.212(b)(1). We have calculated importer-specific duty assessment rates on a per-unit basis. Specifically, we divided the total dumping margins (calculated as the difference between normal value and export price) for each importer by the total quantity of subject merchandise sold to that importer during the POR to calculate a per-unit assessment amount. In this and future reviews, we will direct CBP to assess importer-specific assessment rates based on the resulting per-unit (i.e., per-kilogram) rates by the weight in kilograms of each entry of the subject merchandise during the POR. The Department intends to issue appropriate assessment instructions directly to CBP 15 days after publication of the final results of this new shipper review.

Cash Deposit Requirements

The following cash deposit requirements will be effective upon publication of these final results of this new shipper review for all shipments of subject merchandise by Qingdao Denarius, entered, or withdrawn from warehouse, for consumption on or after the publication date, as provided by section 751(a)(2)(C) of the Tariff Act of 1930, as amended (“Act”): (1) for subject merchandise produced and exported by Qingdao Denarius, the cash deposit rate will be the percent listed above, or the equivalent per-unit rate; (2) for subject merchandise exported by Qingdao Denarius, but not manufactured by Qingdao Denarius, the cash deposit rate will continue to be the PRC-wide rate of 118.04 percent; and (3) for subject merchandise manufactured by Qingdao Denarius, but exported by any party other than Qingdao Denarius, the cash deposit rate will be the rate applicable to the exporter. These cash deposit requirements will remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with sections 751(a)(2)(B) and 777(i) of the Act, and 19 CFR 351.214(h) and 351.221(b)(5).

Dated: June 10, 2010.
Ronald K. Lorentzen,
Deputy Assistant Secretary for Import Administration.

Appendix I Decision Memorandum

COMMENT 1: LEGITIMACY OF QINGDAO DENARIUS AS A NEW SHIPPER COMMENT 2: SURROGATE VALUES

A. CARTONS

B. STEEL SCRAP

C. CURRENCY CONVERSION

COMMENT 3: CLASSIFICATION OF CERTAIN INPUTS

COMMENT 4: SURROGATE FINANCIAL RATIOS

COMMENT 5: ADJUSTMENT TO GROSS UNIT PRICE

[FR Doc. 2010-14666 Filed 6-16-10; 8:45 am]

BILLING CODE 3510-DS-S